DEPARTMENT OF THE INTERIOR

National Park Service

[NPS-WASO-NRNHL-21933; PPWOCRADI0, PCU00RP14.R50000]

National Register of Historic Places; Notification of Pending Nominations and Related Actions

AGENCY: National Park Service, Interior.

ACTION: Notice.

SUMMARY: The National Park Service is soliciting comments on the significance of properties nominated before September 10, 2016, for listing or related actions in the National Register of Historic Places.

DATES: Comments should be submitted by October 24, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before September 10, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ILLINOIS

Cook County

Ebenezer Missionary Baptist Church, 4501 S. Vincennes Ave., Chicago, 16000734

Third Church of Christ, Scientist, 2151 W. Washington Blvd., Chicago, 16000733

Kane County

Middle Avenue Historic District, Bounded by S. Lake, Cross, S. River & Gale Sts., Aurora, 16000735

MISSOURI

Jackson County

Stevens, Edward A., House, 3223 Gladstone Blvd., Kansas City, 16000736

NEW JERSEY

Warren County

St. James Lutheran Church and Cemetery, 1213 US 22, Pohatcong Township, 16000737

TENNESSEE

Davidson County

Federal Office Building, 801 Broadway, Nashville, 16000739

WISCONSIN

Dane County

Madison Brass Works, 206-214 Waubesa St., Madison, 16000738

Ozaukee County

Vocke, Frank, Octagonal Barn, 1901 W. Pioneer Rd., Mequon, 16000740

Polk County

Lindstrom, John, Round Barn, 1311 120th Ave., Balsam Lake, 16000741

Authority: 60.13 of 36 CFR part 60.

Dated: September 13, 2016.
Christopher Hetzel,
Acting Chief, National Register of Historic Places/National Historic Landmarks Program.

[FR Doc. 2016-24259 Filed 10-6-16; 8:45 am]

BILLING CODE 4312-52-P